DEPARTMENT OF ENERGY

Federal Energy Regulatory Commission

Combined Notice of Filings #1

Take notice that the Commission received the following electric corporate filings:

Docket Numbers: EC19-56-000.

Applicants: Tonopah Solar Energy, LLC.

Description: Application of Tonopah Solar Energy, LLC for Authorization under Section 203 and request for expedited treatment.

Filed Date: 2/13/19.

Accession Number: 20190213-5164.

Comments Due: 5 p.m. ET 3/6/19.

Take notice that the Commission received the following electric rate filings:

Docket Numbers: ER13-738-006; ER10-1186 009; ER10-1329 009; ER11-3097 010.

Applicants: DTE Electric Company, DTE Energy Trading, Inc., DTE Energy Supply, Inc., St. Paul Cogeneration, LLC.

Description: Notice of Non-Material Change in Status of the DTE MBR Entities.

Filed Date: 2/13/19.

Accession Number: 20190213-5152.

Comments Due: 5 p.m. ET 3/6/19.

Docket Numbers: ER19-210-001.

Applicants: PJM Interconnection, L.L.C.

Description: Tariff Amendment: Response to Commission's Jan 15, 2019 Deficiency Letter re: Maintenance Adder to be effective 4/15/2019.

Filed Date: 2/14/19.

Accession Number: 20190214-5103.

Comments Due: 5 p.m. ET 3/7/19.

Docket Numbers: ER19-1042-000.

Applicants: Valentine Solar, LLC.

Description: § 205(d) Rate Filing: Valentine Solar Concurrence to Shared Transmission Facilities Agreement to be effective 2/17/2019.

Filed Date: 2/13/19.

Accession Number: 20190213-5121.

Comments Due: 5 p.m. ET 3/6/19.

Docket Numbers: ER19-1043-000.

Applicants: Idaho Power Company.

Description: § 205(d) Rate Filing: Schedule 12 Update Regarding Real Power Losses for Dynamic Transfers to be effective 4/15/2019.

Filed Date: 2/14/19.

Accession Number: 20190214-5000.

Comments Due: 5 p.m. ET 3/7/19.

Docket Numbers: ER19-1044-000.

Applicants: Telocaset Wind Power Partners, LLC.

Description: Compliance filing: New eTariff Baseline Filing to be effective 12/27/2018.

Filed Date: 2/14/19.

Accession Number: 20190214-5032.

Comments Due: 5 p.m. ET 3/7/19.

Docket Numbers: ER19-1045-000.

Applicants: Midcontinent Independent System Operator, Inc., Pioneer Transmission LLC.

Description: § 205(d) Rate Filing: 2019-02-14_SA 3138 Pioneer-DEI 1st Rev Interconnection Agreement to be effective 12/12/2018.

Filed Date: 2/14/19.

Accession Number: 20190214-5033.

Comments Due: 5 p.m. ET 3/7/19.

Docket Numbers: ER19-1046-000.

Applicants: Midcontinent Independent System Operator, Inc., Otter Tail Power Company.

Description: § 205(d) Rate Filing: 2019-02-14_SA 3247 OTP-Crowned Ridge II FCA (BSSB Crossing) to be effective 3/1/2019.

Filed Date: 2/14/19.

Accession Number: 20190214-5049.

Comments Due: 5 p.m. ET 3/7/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 14, 2019.
Nathaniel J. Davis, Sr.,
Deputy Secretary.

[FR Doc. 2019-02889 Filed 2-20-19; 8:45 am]

BILLING CODE 6717-01-P